DEPARTMENT OF STATE

[Public Notice 11606]

Notice of Charter Renewal of the Advisory Committee on International Postal and Delivery Services

AGENCY: Department of State.

ACTION: Notice of charter renewal.

This notice announces the renewal of the charter or the Advisory Committee on International Postal and Delivery Services (IPODS). In accordance with the provisions of the 2006 Postal Accountability and Enhancement Act and the Federal Advisory Committee Act, the Committee's charter has been extended until November 5, 2023.

The Department of State uses the IPODS Committee to remain informed of the interests of users and providers of international postal and delivery services. The Assistant Secretary of State for International Organization Affairs appoints members of the committee, including representatives of the Department of Commerce, the Department of Homeland Security, the Office of the United States Trade Representative, the Postal Regulatory Commission, the Military Postal Service Agency, and the United States Postal Service.

FOR FURTHER INFORMATION CONTACT: Ms. Shereece Robinson of the Office of Specialized and Technical Agencies (IO/STA), Bureau of International Organization Affairs, U.S. Department of State, at tel. (202) 663-2649, by email at RobinsonSA2@state.gov or by mail at IO/STA, L409 (SA1), Department of State, 2401 E Street NW, Washington, DC 20037.

Stuart Smith,
Designated Federal Officer, Advisory Committee on International Postal and Delivery Services, Department of State.

[FR Doc. 2021-27085 Filed 12-14-21; 8:45 am]

BILLING CODE 4710-19-P